DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Polysaccharide Derived Nitric Oxide Releasing Carbon Bound Diazeniumdiolates

Joseph A. Hrabie et al. (NCI)

U.S. Provisional Application No. 60/731,946 filed 31 Oct 2005 (HHS Reference No. E-279-20050-US-01)

Licensing Contact: John Stansberry; 301/435-5236; stansbej@mail.nih.gov

The invention discloses a method for producing nitric oxide(NO)-releasing derivatives of any material containing a reducing sugar component. It may be used to produce NO-releasing cotton bandages or surgical fabrics, cellulose filters or dialysis membranes, and drug formulating/compounding agents to prevent stomach irritation. The method involves incorporation of a diazeniumdiolate (-N2O2) group at one or more carbons via the base-catalyzed replacement of acidic hydrogens and is thus compatible with traditional polysaccharide processing techniques. Monosaccharides such as glucose may also be derivatized.

In addition to licensing, the technology is available for further development through collaborative research opportunities with the inventors.

Hydropneumatic Fluid Control for a Cell Culturing System

Alexandr Chanturiya, Svetlana Glushakova, and Joshua Zimmerberg (NICHD)

U.S. Provisional Application No. 60/725,327 filed 12 Oct 2005 (HHS Reference No. E-166-2005/0-US-01)

Licensing Contact: Michael Shmilovich; 301/435-5019; shmilovm@mail.nih.gov

Available for licensing and commercial development is a hydropneumatic fluid control system in which cell culture media is perfused through a bioreactor by gas pressure where the direction of the gas directs the direction of perfusion. The gas can also act to regulate the pH of the cell culture media. Containers holding the cell culture media are situated on either side of an axis of rotation of a platform. The weight of the container as it fills with media forces the platform to oscillate. The oscillation actuates a piston—also coupled to the platform—which regulates a valve that switches the flow of gas to the other container. This system does not use electricity and, with an appropriate gas mixture, saturates cell culture media with gas.

In addition to licensing, the technology is available for further development through collaborative research opportunities with the inventors.

A Knockout Mouse for Transcription Factor Nurr1

Dr. Vera Nikodem (NIDDK)

HHS Reference No. E-024-1999/0—Research Tool

Licensing Contact: Marlene Shinn-Astor; 301/435-4426; shinnm@mail.nih.gov

Transcriptional factor Nurr1 is an obligatory factor for neurotransmitter dopamine biosynthesis only in ventral midbrain as demonstrated by the Nurr1 genomic locus inactivation using homologous recombination.

From a neurological and clinical perspective, it suggests an entirely new mechanism for dopamine depletion in a region where dopamine is known to be involved in Parkinson's disease. Clinically, our findings indicate that activation of Nurr1 may be therapeutically useful for Parkinson's disease patients; therefore, the mice would be useful in Parkinson's disease research.

Dated: January 3, 2006.
Steven M. Ferguson,
Director, Division of Technology Development and Transfer, Office of Technology Transfer, National Institutes of Health.

[FR Doc. E6-86 Filed 1-9-06; 8:45 am]

BILLING CODE 4140-01-P